DEPARTMENT OF HOUSING AND URBAN DEVELOPMENT

[Docket No. FR-5681-N-30]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202) 401-0787; Air Force: Mr. Robert Moore, Air Force Real Property Agency, 2261 Hughes Avenue, Suite 156, Lackland AFB, TX 78236-9852, (210) 395-9512; GSA: Mr. Flavio Peres, General Services Administration, Office of Real Property Utilization and Disposal, 1800 F Street NW., Room 7040, Washington, DC 20405, (202) 501-0084; Interior: Mr. Michael Wright, Acquisition & Property Management, Department of the Interior, MS-4262, 1849 C Street, Washington, DC 20240, (202) 513-0795; NASA: Mr. Frank T. Bellinger, Facilities Engineering Division, National Aeronautics & Space Administration, Code JX, Washington, DC 20546, (202) 358-1124; Navy: Mr. Steve Matteo, Department of the Navy, Asset Management Division, Naval Facilities Engineering Command, Washington Navy Yard, 1330 Patterson Ave. SW., Suite 1000, Washington, DC 20374; (202) 685-9426; (These are not toll-free numbers).

Dated: July 18, 2013.
Mark Johnston,
Deputy Assistant Secretary for Special Needs.

Title V, Federal Surplus Property Program Federal Register Report for 07/26/2013

Suitable/Available Properties

Building

California

Big Bar Timber Office (2031)

28451 State Hwy 299 West

Big Bar CA 96010

Landholding Agency: Agriculture

Property Number: 15201330001

Status: Excess

Comments: off-site removal only; 1,247 sf.; 9+ months vacant; storage/office; repairs needed; security issues; contact Agriculture for more information

Big Bar Carpenter Shop (2117)

28451 State Hwy 299 West

Big Bar CA 96010

Landholding Agency: Agriculture

Property Number: 15201330002

Status: Excess

Comments: off-site removal only; 488 sf.; storage; 48+ months vacant; repairs needed; security issues; contact Agriculture for more information

Mt. Hebron 4970005

Santa Clara Ave.

Mt. Hebron CA

Landholding Agency: Agriculture

Property Number: 15201330003

Status: Excess

Comments: Off-site removal only, 1,052 sf.; office; poor condition

Mt. Hebron 4970004

Santa Clara Ave.

Mt. Hebron CA

Landholding Agency: Agriculture

Property Number: 15201330004

Status: Excess

Comments: Off-site removal only; 1,460 sf.; barracks; poor condition.

Mt. Hebron 4970002

Santa Clara Ave.

Mt. Hebron CA

Landholding Agency: Agriculture

Property Number: 15201330005

Status: Excess

Comments: Off-site removal only; 1,288 sf.; barracks, poor conditions.

Mt. Hebron

Santa Clara Ave.

Mt. Hebron CA

Landholding Agency: Agriculture

Property Number: 15201330006

Status: Excess

Comments: Off-sit removal only; 820 sf., garage/storage; poor conditions

MT. Hebron; 4970014

Santa Clara Ave.

Mt. Hebron CA

Landholding Agency: Agriculture

Property Number: 15201330007

Status: Excess

Comments: Off-sit removal only; 232 sf., warehouse/storage; poor conditions

Mt. Hebron; 4970023

Santa Clara Ave.

Mt. Hebron CA

Landholding Agency: Agriculture

Property Number: 15201330008

Status: Excess

Comments: Off-sit removal only; 189 sf., storage; 79 yrs. poor conditions

Mt. Hebron; 4970024

Santa Clara Ave.

Mt. Hebron CA

Landholding Agency: Agriculture

Property Number: 15201330010

Status: Excess

Comments: Off-sit removal only; 162 sf., storage; 79 yrs. poor conditions

Indiana

Tract 85-107

910 Wilson Road

Beverly Shores IN 46301

Landholding Agency: Interior

Property Number: 61201330001

Status: Excess

Comments: Off-sit removal only; residential; 2,548 sf., residential; 26+months vacant, extensive structural damage, asbestos & mold, contact Interior for more info.

Tract 25-111 Slaughter House

206 Prospect

Beverly Shore IN 46301

Landholding Agency: Interior

Property Number: 61201330002

Status: Excess

Comments: Off-site removal only; 1,180 sf.; 18 + month vacant; asbestos. mold & lead; rat-infested; contact interior for more info.

Tract 38-134 Olson House

1449 Hawley Wood Rd.

Chesterton IN 46304

Landholding Agency: Interior

Property Number: 61201330003

Status: Excess

Comments: Off-site removal only; 1,026 sf.; residential; significant repairs; 26+ months vacant; asbestos & lead; contact interior for more info.

Tract 11-250; Lane House

null

Portage IN 46368

Landholding Agency: Interior

Property Number: 61201330004

Status: Excess

Comments: Off-sit removal only; 1,375 sf., residential; 25+months vacant, asbestos; significant repairs need, contact Interior for more info.

Tract 11-101; Defauw House

9736 Maple Place

Gary IN 46401

Landholding Agency: Interior

Property Number: 61201330005

Status: Excess

Comments: offf-site removal only; 1,176 sf.; residential; 25+ months vacant; contact Interior for more information

Tract 35-126 Millet House

null

Porter IN 46304

Landholding Agency: Interior

Property Number: 61201330006

Status: Excess

Comments: Off-site removal only; 1,170 sf.; residential; 25+ months vacant; asbestos & lead; significant repairs; contact interior for more info.

Tract 113-43, Kritlow House

null

Gary IN 46401

Landholding Agency: Interior

Property Number: 61201330007

Status: Excess

Comments: Off-sit removal only; 1,000 sf., residential; 20+months vacant, mold & asbestos; contact Interior for more info.

Tract 64-156, Keys House

275 York Avenue

Beverly Shores IN 46301

Landholding Agency: Interior

Property Number: 61201330008

Status: Excess

Comments: Off-sit removal only; 1,200 sf., residential; 3 yrs., vacant, mold, lead & asbestos; extensive deterioration, contact Interior for more info.

Tract 41-138 Meyer House

230 E 1500 N

Chesterton IN 46304

Landholding Agency: Interior

Property Number: 61201330009

Status: Excess

Comments: Off-site removal only; 1,152 sf.; residential; 24+ months vacant; asbestos & mold; extensive deterioration, contact interior for more info.

Tract 11-228 Mache House

9621 Maple Avenue

Portage IN 46368

Landholding Agency: Interior

Property Number: 61201330010

Status: Excess

Comments: Off-site removal only; 840 sf.; 25+ months vacant; asbestos; structural unsound; contact interior for more info.

Tract 87-141 McClusky House

929 E Holy Place

Beverly Shores IN 46301

Landholding Agency: Interior

Property Number: 61201330011

Status: Excess

Comments: Off-site removal only; 2,688 sf.; residential; 26+ months vacant; mold; extensive damage; contact interior for more info.

Tract 85-100 McPharlin House

9 S Drake

Beverly Shore IN 46301

Landholding Agency: Interior

Property Number: 61201330012

Status: Excess

Comments: Off-site removal only; 1,302 sf.; residential; 3 yrs. + vacant, asbestos; lead; mold; extensive deterioration; contact interior for more info.

Tract 39-145, Tabor House

106 E Pottawatomie Court

Chesterton IN 46304

Landholding Agency: Interior

Property Number: 61201330013

Status: Excess

Comments: Off-sit removal only; 1,351 sf., residential; 26+ months vacant, extensive deterioration contamination; contact Interior for more info.

Tract 39-158 Jones House

1477 NE Pottawatomie

Chesterton IN 46304

Landholding Agency: Interior

Property Number: 61201330014

Status: Excess

Comments: Off-site removal only; 2,046 sf.; residential; 26+ months vacant; extensive deterioration; contact interior for more info.

Tract 40-177 Koehnemann House

1464 N Veden Road

Chesterton IN 46304

Landholding Agency: Interior

Property Number: 61201330015

Status: Excess

Comments: Off-site removal only; 1,347 sf.; residential; 24+ months vacant; mold; extensive deterioration; contact Interior for more info.

Tract 35-134; Willison House

901 W HWY 12

Porter IN 46304

Landholding Agency: Interior

Property Number: 61201330016

Status: Excess

Comments: Off-sit removal only; 576 sf., residential; 25+ months vacant, asbestos & lead; significant repairs; contact Interior for more info.

Tract 13-156 Barnes House

345 S Union

Gary IN 46401

Landholding Agency: Interior

Property Number: 61201330017

Status: Excess

Comments: Off-site removal only; 1,372 sf.; residential; 59 yrs. old; asbestos & lead; significant repairs needed, contact Interior for more info.

Tract 85-199; Zimmerman House

13 S Drake

Beverly Shore IN 46301

Landholding Agency: Interior

Property Number: 61201330018

Status: Excess

Comments: Off-site removal only; 1,133 sf., 3+ yrs. vacant, residential, extensive deterioration, contact Interior for more info.

Tract 39-103 Benson House

1485 Pottawatomie Road

Chesterton IN 46304

Landholding Agency: Interior

Property Number: 61201330019

Status: Excess

Comments: Off-site removal only; 1,305 sf.; residential; 26+ months vacant; significant repairs needed; asbestos & lead; contact interior for more info.

Tract 19-101 Brooks House

1507 N 300 E

Chesterton IN 46304

Landholding Agency: Interior

Property Number: 61201330022

Status: Excess

Comments: Off-site removal only; 865 sf.; residential; 24+ months vacant; asbestos mold & lead extensive damage, contact Interior for more info.

Tract 18-139; Parker House

156 N County Line Road

Gary IN 46401

Landholding Agency: Interior

Property Number: 61201330023

Status: Excess

Comments: Off-sit removal only; 2,406 sf., residential; asbestos; Chimney, damage; structural unsound; contact Interior for more info.

Tract 38-145 Carney House

1451 Hawley Wood Road

Chesterton IN 46304

Landholding Agency: Interior

Property Number: 61201330024

Status: Excess

Comments: Off-site removal only; 1,736 sf.; residential; 26+ months vacant; asbestos; lead & mold; structurally unsound, contact Interior for more info.

Tract 27-146; Periolat House

940 E Valley

Beverly Shores IN 46301

Landholding Agency: Interior

Property Number: 61201330025

Status: Excess

Comments: Off-sit removal only; 1,552 sf., residential; 72+ months vacant, asbestos, mold & lead; contact Interior for more info.

Tract 86-162; Pascale House

909 E. Lakefront Drive

Beverly Shores IN 46301

Landholding Agency: Interior

Property Number: 61201330026

Status: Excess

Comments: Off-sit removal only; 2,100 sf., residential; 26+ months vacant, extensive deterioration; asbestos; contact Interior for more info.

Tract 35-117; Segal House

717 W HWY 12

Porter IN 46304

Landholding Agency: Interior

Property Number: 61201330027

Status: Excess

Comments: Off-sit removal only; 608 sf., residential; 25+ months vacant, asbestos, mold & lead; contact Interior for more info.

Tract 39-175; Peterson House

103 Pottawatomie Trail

Chesterton IN 46304

Landholding Agency: Interior

Property Number: 61201330028

Status: Excess

Comments: Off-sit removal only; 1,305 sf., residential; 25+ months vacant, extensive deterioration; asbestos & lead; contact Interior for more info.

Tract 114-23 Hartford House

3525 Tippecanoe

Gary IN 46401

Landholding Agency: Interior

Property Number: 61201330029

Status: Excess

Comments: Off-site removal only; 1,380 sf.; residential; 12+ months vacant; asbestos; lead & mold; structurally unsound; contact Interior for more info.

Tract 39-169 Goodwin House

114 Pottawatomie Road

Chesterton IN 46304

Landholding Agency: Interior

Property Number: 61201330030

Status: Excess

Comments: Off-site removal only; 2,178 sf.; residential; 25+ months vacant; extensive deterioration; contact Interior for more info.

Tract 87-142 Christphersen Hou

933 Holy Place

Beverly Shore IN 46301

Landholding Agency: Interior

Property Number: 61201330032

Status: Excess

Comments: Off-site removal only; 810 sf.; residential; asbestos; lead & mold; extensive damage; contact Interior for more info.

Tract 39-168 Leazer House

102 Pottawatomie

Chesterton IN 46304

Landholding Agency: Interior

Property Number: 61201330033

Status: Excess

Comments: Off-site removal only; 1,404 sf.; residential; 26+ months vacant; extensive deterioration; mold; roof needs to be replaced; contact Interior for more info.

Track 65-130 Lukas House

224 W Hastings

Beverly Shore IN 46301

Landholding Agency: Interior

Property Number: 61201330034

Status: Excess

Comments: Off-site removal only; 1,160 sf.; residential; 26+ months vacant; extensive deterioration; contact Interior for more info.

Tract 11-253 Grimm House

9655 Oak Place

Portage IN 46368

Landholding Agency: Interior

Property Number: 61201330035

Status: Excess

Comments: Off-site removal only; 1,541 sf.; residential; 25+ months vacant; asbestos; significant repairs needed; contact Interior for more info.

Tract 88-191 Specht House

925 E Beverly Drive

Beverly Shores IN 46301

Landholding Agency: Interior

Property Number: 61201330036

Status: Excess

Comments: Off-site removal only; 1,360 sf.; 30+ months vacant; residential; extensive damage asbestos & mold; contact Interior for more info.

Tract 25-123 Stroker House

270 Arkansas

Beverly Shores IN 46301

Landholding Agency: Interior

Property Number: 61201330037

Status: Excess

Comments: Off-site removal only; 2,640 sf.; 26+ months vacant; residential; asbestos; mold & lead; significant repairs; contact Interior for more info.

Mississippi

Building 112

CRTC GULFPORT. MS

Gulfport MS 39507

Landholding Agency: Air Force

Property Number: 18201330001

Status: Excess

Comments: 90 sf., ATM bldg., good conditions, contact AF for more info.

Land

New York

FAA Radio Communication Link

Adjacent to Babcock Road

Colesville NY 13787

Landholding Agency: GSA

Property Number: 54201330001

Status: Excess

GSA Number: 1-NY-0977-AA

Comments: 6.03 acres; contact GSA for more info.

Unsuitable Properties

Building

California

Building 6168-Equipment Loadin

Marine Corps Air Station Miramar

San Diego CA

Landholding Agency: Navy

Property Number: 77201330005

Status: Excess

Comments: Due to anti-terrorism force protection public access denied & no alternative method to gain access w/out compromising nat'l security

Reasons: Secured Area

Bldg. 6250 Legal Svcs. Public

Marine Corps Air Station

San Diego CA

Landholding Agency: Navy

Property Number: 77201330006

Status: Excess

Comments: Due to anti-terrorism/force protection public access denied & no alternative method to gain access w/out compromising nat'l security

Reasons: Secured Area

Connecticut

Building 20

Naval Submarine Base New London

Groton CT 06349

Landholding Agency: Navy

Property Number: 77201330002

Status: Excess

Comments: Public access denied & no alternative method to gain access w/out compromising nat'l security

Reasons: Secured Area

Florida

Paint Storage Building

66200 Hangar Road

CCAFA FL 32925

Landholding Agency: NASA

Property Number: 71201330001

Status: Unutilized

Comments: Public access denied & no alternative method to gain access w/out compromising nat'l security

Reasons: Secured Area

Institutional Storage Facility

66220 Scrub Jay Rd.

CCAFS FL 32925

Landholding Agency: NASA

Property Number: 71201330002

Status: Unutilized

Comments: Public access denied & no alternative method to gain access w/out compromising nat'l security

Reasons: Secured Area

Institutional Storage Facility

66221 Scrub Jay Rd.

CCAFS FL 32925

Landholding Agency: NASA

Property Number: 71201330003

Status: Unutilized

Comments: Public access denied & no alternative method to gain access w/out compromising nat'l security

Reasons: Secured Area

Boiler Building

66257 Hanger Rd.

CCAFS FL 32925

Landholding Agency: NASA

Property Number: 71201330004

Status: Unutilized

Comments: Public access denied & no alternative method to gain access w/out compromising nat'l security

Reasons: Secured Area

Sandblast Paint Facility

Schwartz Road

KSC FL 32899

Landholding Agency: NASA

Property Number: 71201330005

Status: Unutilized

Comments: Public access denied & no alternative method to gain access w/out compromising nat'l security

Reasons: Secured Area

SLF Optical Tracker Site B

Sharkey Road

KSC FL 32899

Landholding Agency: NASA

Property Number: 71201330006

Status: Unutilized

Comments: Public access denied & no alternative method to gain access w/out compromising nat'l security

Reasons: Secured Area

Environmental Health Facility

C Ave. NE

KSC FL 32899

Landholding Agency: NASA

Property Number: 71201330007

Status: Unutilized

Comments: Public access denied & no alternative method to gain access w/out compromising nat'l security

Reasons: Secured Area

SLF Optical Tracker Site E

Sharkey Rd.

KSC FL 32899

Landholding Agency: NASA

Property Number: 71201330008

Status: Unutilized

Comments: Public access denied & no alternative method to gain access w/out compromising nat'l security

Reasons: Secured Area

Hawaii

#21418

Joint Base Pearl Harbor Hickam Installation (N62813)

Pearl Harbor HI 62813

Landholding Agency: Navy

Property Number: 77201330001

Status: Unutilized

Comments: Public access denied & no alternative method to gain access w/out compromising nat'l security

Reasons: Secured Area

83214H

Joint Base Pearl Harbor Hickam

Pearl Harbor HI 62813

Landholding Agency: Navy

Property Number: 77201330003

Status: Unutilized

Comments: Public access denied & no alternative method to gain access w/out compromising nat'l security

Reasons: Secured Area

#83220H

Joint Base Pearl Harbor Hickam Installation

Pearl Harbor HI 62813

Landholding Agency: Navy

Property Number: 77201330004

Status: Unutilized

Comments: Public access denied & no alternative method to gain access w/out compromising nat'l security

Reasons: Secured Area

Indiana

Tract 114-03 Danskin House

320 S. Union Street

Gary IN 46401

Landholding Agency: Interior

Property Number: 61201330031

Status: Excess

Comments: Documented deficiencies; severe structural damage; bldg. is collapsing; safety hazard; not economically feasible to repair.

Reasons: Extensive deterioration

Mississippi

Building 115

CRTC Gulfport

Gulfport MS 39507

Landholding Agency: Air Force

Property Number: 18201330002

Status: Excess

Comments: Public access denied & no alternative method to gain access w/out compromising nat'l security

Reasons: Secured Area

N. Mariana Island

Building 2001/RG CON HSE

Range 123 W.-Prairie

Pueblo West CQ 81007

Landholding Agency: Air Force

Property Number: 18201330005

Status: Underutilized

Comments: Public access denied & no alternative method to gain access w/out compromising nat'l security

Reasons: Secured Area

South Dakota

Building 80

1201 W. Algonquin St.

Sioux Falls SD 57104

Landholding Agency: Air Force

Property Number: 18201330003

Status: Excess

Comments: Public access denied & no alternative method to gain access w/out compromising nat'l security

Reasons: Secured Area

Texas

Building

1304 Andrews Rd. (Lackland AFB)

San Antonio TX 78101

Landholding Agency: Air Force

Property Number: 18201330004

Status: Excess

Comments: Public access denied & no alternative method to gain access w/out compromising nat'l security

Reasons: Secured Area

[FR Doc. 2013-17657 Filed 7-25-13; 8:45 am]

BILLING CODE 4210-67-P